DEPARTMENT OF THE TREASURY

Office of Foreign Assets Control

Additional Designations of Entities Pursuant to Executive Order 13464

AGENCY: Office of Foreign Assets Control, Treasury.

ACTION: Notice.

SUMMARY: The Treasury Department's Office of Foreign Assets Control (“OFAC”) is publishing the names of three newly designated entities whose property and interests in property are blocked pursuant to Executive Order 13464 of April 30, 2008, “Blocking Property and Prohibiting Certain Transactions Related to Burma.”

DATES: The designation by the Director of OFAC of three entities identified in this notice, pursuant to Executive Orders 13464, is effective July 29, 2008.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Information about these designations and additional information concerning OFAC are available from OFAC's Web site (http://www.treas.gov/ofac) or via facsimile through a 24-hour fax-on-demand service, Tel.: 202/622-0077.

Background

On April 30, 2008, the President signed Executive Order 13464 (the “Order”) pursuant to, inter alia, the International Emergency Economic Powers Act (50 U.S.C. 1701 et seq.). In the Order, the President took additional steps with respect to the national emergency declared in Executive Order 13047 of April 20, 1997, and expanded in Executive Order 13448 of October 18, 2007, to address the Government of Burma's continued repression of the democratic opposition. The President identified three entities as subject to the economic sanctions in the Annex to the Order.

Section 1 of the Order blocks, with certain exceptions, all property and interests in property that are in, or hereafter come within, the United States, or within the possession or control of United States persons, of the persons listed in the Annex, as well as those persons determined by the Secretary of the Treasury, after consultation with the Secretary of State, to satisfy any of the criteria set forth in subparagraphs (b)(i)-(b)(iii) of Section 1. On July 29, 2008, the Director of OFAC exercised the Secretary of the Treasury's authority to designate, pursuant to one or more of the criteria set forth in Section 1, subparagraphs (b)(i)-(b)(iii) of the Order, the following three entities, whose names have been added to the list of Specially Designated Nationals and whose property and interests in property are blocked pursuant to Executive Order 13464:

Entities

1. NO. 1 MINING ENTERPRISE, 90 Kanbe Road, Yankin, Rangoon (Yangon, Burma; (ENTITY) [BURMA].

2. NO. 2 MINING ENTERPRISE, 90 Kanbe Road, Yankin, Rangoon (Yangon, Burma; (ENTITY) [BURMA].

3. NO. 3 MINING ENTERPRISE, 90 Kanbe Road, Yankin, Rangoon (Yangon, Burma; (ENTITY) [BURMA].

Dated: July 29, 2008.
Adam J. Szubin,
Director, Office of Foreign Assets Control.

[FR Doc. E8-17747 Filed 8-1-08; 8:45 am]

BILLING CODE 4811-42-P